DEPARTMENT OF COMMERCE

National Oceanic and Atmospheric Administration

50 CFR Part 679

[Docket No. 191126-0094]

RTID 0648-XY201

Fisheries of the Exclusive Economic Zone Off Alaska; Gulf of Alaska; Proposed 2020 and 2021 Harvest Specifications for Groundfish

AGENCY: National Marine Fisheries Service (NMFS), National Oceanic and Atmospheric Administration (NOAA), Commerce.

ACTION: Proposed rule; harvest specifications and request for comments.

SUMMARY: NMFS proposes 2020 and 2021 harvest specifications, apportionments, and Pacific halibut prohibited species catch limits for the groundfish fishery of the Gulf of Alaska (GOA). This action is necessary to establish harvest limits for groundfish during the 2020 and 2021 fishing years and to accomplish the goals and objectives of the Fishery Management Plan for Groundfish of the Gulf of Alaska. The 2020 harvest specifications supersede those previously set in the final 2019 and 2020 harvest specifications, and the 2021 harvest specifications will be superseded in early 2021 when the final 2021 and 2022 harvest specifications are published. The intended effect of this action is to conserve and manage the groundfish resources in the GOA in accordance with the Magnuson-Stevens Fishery Conservation and Management Act.

DATES: Comments must be received by January 2, 2020.

ADDRESSES: Submit comments on this document, identified by NOAA-NMFS-2019-0102, by either of the following methods:

• Federal e-Rulemaking Portal: Go to www.regulations.gov/#!docketDetail;D=NOAA-NMFS-2019-0102, click the “Comment Now!” icon, complete the required fields, and enter or attach your comments.

• Mail: Submit written comments to Glenn Merrill, Assistant Regional Administrator, Sustainable Fisheries Division, Alaska Region NMFS, Attn: Records Office. Mail comments to P.O. Box 21668, Juneau, AK 99802-1668.

Instructions: NMFS may not consider comments if they are sent by any other method, to any other address or individual, or received after the comment period ends. All comments received are a part of the public record, and NMFS will post the comments for public viewing on www.regulations.gov without change. All personal identifying information (e.g., name, address), confidential business information, or otherwise sensitive information submitted voluntarily by the sender is publicly accessible. NMFS will accept anonymous comments (enter “N/A” in the required fields if you wish to remain anonymous).

Electronic copies of the Alaska Groundfish Harvest Specifications Final Environmental Impact Statement (Final EIS), Record of Decision (ROD) for the Final EIS, the annual Supplementary Information Reports (SIRs) to the Final EIS, and the Initial Regulatory Flexibility Analysis (IRFA) prepared for this action area available from https://www.regulations.gov. An updated 2020 SIR for the final 2020 and 2021 harvest specifications will be available from the same source. The final 2018 Stock Assessment and Fishery Evaluation (SAFE) report for the groundfish resources of the GOA, dated November 2018, is available from the North Pacific Fishery Management Council (Council) at 605 West 4th Avenue, Suite 306, Anchorage, AK 99501-2252, phone 907-271-2809, or from the Council's website at https://www.npfmc.org. The 2019 SAFE report for the GOA will be available from the same source.

FOR FURTHER INFORMATION CONTACT: Obren Davis, 907-586-7228.

SUPPLEMENTARY INFORMATION: NMFS manages the groundfish fisheries in the exclusive economic zone (EEZ) of the GOA under the Fishery Management Plan for Groundfish of the Gulf of Alaska (FMP). The Council prepared the FMP under the authority of the Magnuson-Stevens Fishery Conservation and Management Act (Magnuson-Stevens Act), 16 U.S.C. 1801, et seq. Regulations governing U.S. fisheries and implementing the FMP appear at 50 CFR parts 600, 679, and 680.

The FMP and its implementing regulations require that NMFS, after consultation with the Council, specify the total allowable catch (TAC) for each target species, the sum of which must be within the optimum yield (OY) range of 116,000 to 800,000 metric tons (mt) (§ 679.20(a)(1)(i)(B)). Section 679.20(c)(1) further requires NMFS to publish and solicit public comment on proposed annual TACs and apportionments thereof, Pacific halibut prohibited species catch (PSC) limits, and seasonal allowances of pollock and Pacific cod. The proposed harvest specifications in Tables 1 through 19 of this rule satisfy these requirements. For 2020 and 2021, the sum of the proposed TAC amounts is 408,534 mt.

Under § 679.20(c)(3), NMFS will publish the final 2020 and 2021 harvest specifications after (1) considering comments received within the comment period (see DATES), (2) consulting with the Council at its December 2019 meeting, (3) considering information presented in the 2020 SIR to the Final EIS that assesses the need to prepare a Supplemental EIS (see ADDRESSES), and (4) considering information presented in the final 2019 SAFE reports prepared for the 2020 and 2021 groundfish fisheries.

Other Actions Affecting or Potentially Affecting the 2020 and 2021 Harvest Specifications

Reclassify Sculpins as an Ecosystem Component Species

In October 2019, the Council recommended that sculpins be reclassified in the FMP as an “ecosystem component” species, which is a category of non-target species that are not in need of conservation and management. Currently, NMFS annually sets an overfishing level (OFL), Acceptable Biological Catch (ABC), and TAC for sculpins in the GOA groundfish harvest specifications. Under the Council's recommended action, OFL, ABC, and TAC specifications for sculpins would no longer be required. NMFS intends to develop rulemaking to implement the Council's recommendation for sculpins. Such rulemaking would prohibit directed fishing for sculpins, maintain recordkeeping and reporting, and establish a sculpin maximum retainable amount when directed fishing for groundfish species at 20 percent to discourage retention, while allowing flexibility to prosecute groundfish fisheries. Further details (and public comment on the sculpin action) will be available on publication of the proposed rule to implement an FMP amendment that would reclassify sculpins as an ecosystem component species of the FMP. If the FMP amendment and its implementing regulations are approved by the Secretary of Commerce, the action is anticipated to be effective in 2021. Until effective, NMFS will continue to publish OFLs, ABCs, and TACs for sculpins in the GOA groundfish harvest specifications.

Final Rulemaking To Prohibit Directed Fishing for American Fisheries Act (AFA) and Crab Rationalization (CR) Program Sideboard Limits

On February 8, 2019, NMFS published a final rule (84 FR 2723) that modified regulations for the AFA Program and CR Program participants subject to limits on the catch of specific species (sideboard limits) in the GOA. Sideboard limits are intended to prevent participants who benefit from receiving exclusive harvesting privileges in a particular fishery from shifting effort to other fisheries. Specifically, the final rule established regulations to prohibit directed fishing for most groundfish species or species groups subject to sideboard limits under the AFA Program and CR Program, rather than prohibiting directed fishing through the annual GOA harvest specifications. Since the final rule is now effective, NMFS is no longer publishing in the annual GOA harvest specifications the AFA Program and CR Program sideboard limit amounts for groundfish species or species groups subject to the final rule. Those groundfish species subject to the final rule associated with sideboard limits are now prohibited to directed fishing in regulation (§§ 679.20(d)(1)(iv)(D) and 680.22(e)(1)(i) and (iii) and Tables 54, 55, and 56 to 50 CFR part 679). NMFS will continue to publish in the annual GOA harvest specifications the AFA Program and CR Program sideboard limit amounts for groundfish species or species groups that were not subject to the final rule (see Tables 13, 14, and 15 of this action).

Proposed Revisions to the GOA Pollock Seasons and Pacific Cod Seasonal Allocations

In June 2019, the Council recommended for Secretarial review Amendment 109 to the FMP. Amendment 109 would revise pollock seasons and Pacific cod seasonal allocations. Amendment 109 would modify the existing annual pollock TAC allocation to two equal (50 percent of TAC) seasonal allocations, rather than four equal seasons (25 percent of TAC). The pollock A and B seasons would be combined into a January 20 through May 31 A season, and the pollock C and D seasons would be combined into a September 1 through November 1 B season. Additionally, Amendment 109 would revise the Pacific cod TAC seasonal apportionments to the trawl CV sector by increasing the A season allocation and decreasing the B season allocation. Further details (and public comment on Amendment 109) will be available on publication of the proposed rule to implement Amendment 109. If Amendment 109 and its implementing regulations are approved by the Secretary of Commerce, the action is anticipated to be effective in 2021.

Proposed ABC and TAC Specifications

In October 2019, the Council's Scientific and Statistical Committee (SSC), its Advisory Panel (AP), and the Council reviewed the most recent biological and harvest information about the condition of the GOA groundfish stocks. The Council's GOA Groundfish Plan Team (Plan Team) compiled and presented this information in the final 2018 SAFE report for the GOA groundfish fisheries, dated November 2018 (see ADDRESSES). The SAFE report contains a review of the latest scientific analyses and estimates of each species' biomass and other biological parameters, as well as summaries of the available information on the GOA ecosystem and the economic condition of the groundfish fisheries off Alaska. From these data and analyses, the Plan Team recommends, and the SSC sets, an OFL and ABC for each species or species group. The amounts proposed for the 2020 and 2021 OFLs and ABCs are based on the 2018 SAFE report. The AP and Council recommended that the proposed 2020 and 2021 TACs be set equal to proposed ABCs for all species and species groups, with the exception of the species and species groups further discussed below. The proposed OFLs, ABCs, and TACs could be changed in the final harvest specifications depending on the most recent scientific information contained in the final 2019 SAFE report. The stock assessments that will comprise, in part, the 2019 SAFE report are available at https://www.fisheries.noaa.gov/alaska/population-assessments/north-pacific-groundfish-stock-assessment-and-fishery-evaluation. The final 2019 SAFE report will be available from the same source.

In November 2019, the Plan Team will update the 2018 SAFE report to include new information collected during 2019, such as NMFS stock surveys, revised stock assessments, and catch data. The Plan Team will compile this information and present the draft 2019 SAFE report at the December 2019 Council meeting. At that meeting, the SSC and the Council will review the 2019 SAFE report, and the Council will approve the 2019 SAFE report. The Council will consider information in the 2019 SAFE report, recommendations from the November 2019 Plan Team meeting and December 2019 SSC and AP meetings, public testimony, and relevant written public comments in making its recommendations for the final 2020 and 2021 harvest specifications. Pursuant to § 679.20(a)(2) and (3), the Council could recommend adjusting the TACs if warranted based on the biological condition of groundfish stocks or a variety of socioeconomic considerations, or if required to cause the sum of TACs to fall within the optimum yield range.

Sablefish OFL

For sablefish, at its October 2019 meeting, the SSC discussed the Plan Team's recommendation to review the apportionment and specification of the sablefish OFL and its status quo apportionments in the Bering Sea (BS), Aleutian Islands (AI), and the GOA. The sablefish stock assessment currently uses an Alaska-wide model that establishes an Alaska-wide OFL, which is then apportioned to three area specific OFLs: BS, AI, and GOA. The Alaska-wide OFL is currently the measurable and objective criteria used to monitor and assess the status of the sablefish stock to prevent overfishing and to determine whether overfishing has occurred or the stock is overfished. The 2018 sablefish SAFE report highlights that, given extremely high movement rates throughout their range, sablefish are likely one Alaska-wide stock with no sub-populations in Alaska.

At its September 2019 meeting, the Plan Team discussed that there did not appear to be a conservation concern that warranted sub-area OFLs, particularly since the six sub-area ABC apportionments are designed to spread harvest across areas and prevent any localized depletion. At its October 2019 meeting, the SSC had extensive discussion about the appropriate process for considering a combined OFL, and the SSC determined that combining the OFL is a viable option to consider for the OFL specification for 2020 and 2021. The Plan Team and SSC recommended that the sablefish stock assessment include three options for apportioning and specifying sablefish OFLs for review at the November 2019 Plan Team and December 2019 SSC meetings: (1) No change in the apportionment and specification of a BS OFL, an AI OFL, and a GOA OFL (status quo); (2) apportioning and specifying a Bering Sea and Aleutian Islands (BSAI) OFL, and a separate GOA OFL; and (3) specifying an Alaska-wide OFL.

The SSC will review these three options in the sablefish stock assessment to consider a possible change to the current sablefish OFL apportionment during the December Council meeting. Based on the recommendations of the SSC, NMFS may implement a change to the specification of sablefish OFL in the final 2020 and 2021 harvest specifications.

GOA Pacific Cod

For Pacific cod, at its October 2019 meeting, the SSC discussed the precipitous decline of the Pacific cod stock over recent years, which may have substantial management implications. The Steller sea lion harvest control regulations at § 679.20(d)(4) state that if a biological assessment of the Pacific cod stock projects that the spawning biomass in an area will be equal to or below 20 percent of the projected unfished spawning biomass during a fishing year, then the Regional Administrator will prohibit directed fishing within that area and the directed fishery will remain closed until a subsequent biological assessment projects that the spawning biomass will exceed 20 percent of the projected unfished spawning biomass. Also, if Pacific cod spawning biomass falls below the B17.5% level, a rebuilding plan will be required to comply with provisions of the Magnuson-Stevens Act. The SSC emphasizes that both of these scenarios are possible, given the results from the preliminary September 2019 models.

Potential Changes Between Proposed and Final Specifications

In previous years, the most significant changes (relative to the amount of assessed tonnage of fish) to the OFLs and ABCs from the proposed to the final harvest specifications have been based on the most recent NMFS stock surveys. These surveys provide updated estimates of stock biomass and spatial distribution, and inform changes to the models used for producing stock assessments. At the September 2019 Plan Team meeting, NMFS scientists presented updated and new survey results, potential changes to assessment models, and accompanying, preliminary stock estimates. At the October 2019 Council meeting, the SSC reviewed this information. The species with possible significant model changes are Pacific cod, dover sole, rex sole, flathead sole, Pacific ocean perch, and shortraker and rougheye rockfish. Model changes can result in changes to final OFLs, ABCs, and TACs.

In November 2019, the Plan Team will consider updated stock assessments for groundfish, which will be included in the draft 2019 SAFE report. If the 2019 SAFE report indicates that the stock biomass trend is increasing for a species, then the final 2020 and 2021 harvest specifications for that species may reflect an increase from the proposed harvest specifications. Conversely, if the 2019 SAFE report indicates that the stock biomass trend is decreasing for a species, then the final 2020 and 2021 harvest specifications may reflect a decrease from the proposed harvest specifications.

The proposed 2020 and 2021 OFLs, ABCs, and TACs are based on the best available biological and socioeconomic information, including projected biomass trends, information on assumed distribution of stock biomass, and revised technical methods used to calculate stock biomass. The FMP specifies the tiers to be used to compute OFLs and ABCs. The tiers applicable to a particular stock or stock complex are determined by the level of reliable information available to the fisheries scientists. This information is categorized into a successive series of six tiers to define OFL and ABC amounts, with Tier 1 representing the highest level of information quality available and Tier 6 representing the lowest level of information quality available. The Plan Team used the FMP tier structure to calculate OFLs and ABCs for each groundfish species. The SSC adopted the proposed 2020 and 2021 OFLs and ABCs recommended by the Plan Team for all groundfish species. The Council adopted the SSC's OFL and ABC recommendations and the AP's TAC recommendations.

Specification and Apportionment of TAC Amounts

The Council recommended proposed 2020 and 2021 TACs that are equal to proposed ABCs for all species and species groups, with the exception of pollock in the combined Western and Central Regulatory Areas and the West Yakutat (WYK) District of the Eastern Regulatory Area (the W/C/WYK Regulatory Area), Pacific cod, shallow-water flatfish in the Western Regulatory Area, arrowtooth flounder, flathead sole in the Western and Central Regulatory Areas, and Atka mackerel. The W/C/WYK Regulatory Area pollock TAC and the GOA Pacific cod TACs are set to account for the State of Alaska's (State's) guideline harvest levels (GHLs) for the State water pollock and Pacific cod fisheries so that the ABCs are not exceeded. The shallow-water flatfish, arrowtooth flounder, and flathead sole TACs are set to allow for increased harvest opportunities for these target species while conserving the halibut PSC limit for use in other fisheries. The Atka mackerel TAC is set to accommodate incidental catch amounts in other fisheries. These reductions are described below.

NMFS's proposed apportionments of groundfish species are based on the distribution of biomass among the regulatory areas over which NMFS manages the species. Additional regulations govern the apportionment of pollock, Pacific cod, and sablefish. Additional detail on apportionments of pollock, Pacific cod, and sablefish are described below.

The ABC for the pollock stock in the W/C/WYK Regulatory Area accounts for the GHL established by the State for the Prince William Sound (PWS) pollock fishery. The Plan Team, SSC, AP, and Council have recommended that the sum of all State water and Federal water pollock removals from the GOA not exceed ABC recommendations. For 2020 and 2021, the Council recommended the W/C/WYK pollock ABC, including the amount to account for the State's PWS GHL. At the November 2018 Plan Team meeting, State fisheries managers recommended setting the PWS GHL at 2.5 percent of the annual W/C/WYK pollock ABC. For 2020, this yields a PWS pollock GHL of 2,722 mt, a decrease from the 2019 PWS GHL of 3,396 mt. After accounting for PWS GHL, the 2020 and 2021 pollock ABC for the combined W/C/WYK areas is then apportioned among four statistical areas (Areas 610, 620, 630, and 640) as both ABCs and TACs, as described below and detailed in Table 1. The total ABCs and TACs for the four statistical areas, plus the State GHL, do not exceed the combined W/C/WYK ABC. The proposed W/C/WYK 2020 and 2021 pollock ABC is 108,892 mt, and the proposed TAC is 106,170 mt.

Apportionments of pollock to the W/C/WYK management areas are considered to be apportionments of annual catch limit (ACLs) rather than apportionments of ABCs. This more accurately reflects that such apportionments address management concerns, rather than biological or conservation concerns. In addition, apportionments of the ACL in this manner allow NMFS to balance any transfer of TAC among Areas 610, 620, and 630 pursuant to § 679.20(a)(5)(iv)(B) to ensure that the combined W/C/WYK ACL, ABC, and TAC are not exceeded.

NMFS proposes pollock TACs in the Western Regulatory Area (Area 610), Central Regulatory Area (Areas 620 and 630), and the West Yakutat District (Area 640) and the Southeast Outside (SEO) District (Area 650) of the Eastern Regulatory Area of the GOA (see Table 1). NMFS also proposes seasonal apportionment of the annual pollock TAC in the Western and Central Regulatory Areas of the GOA among Statistical Areas 610, 620, and 630. These apportionments are divided equally among each of the following four seasons: The A season (January 20 through March 10), the B season (March 10 through May 31), the C season (August 25 through October 1), and the D season (October 1 through November 1) (§§ 679.23(d)(2)(i) through (iv), and 679.20(a)(5)(iv)(A) and (B)). Additional detail is provided below; Table 2 lists these amounts.

The proposed 2020 and 2021 Pacific cod TACs are set to accommodate the State's GHLs for Pacific cod in State waters in the Western and Central Regulatory Areas, as well as in PWS (see Table 1). The Plan Team, SSC, AP, and Council recommended that the sum of all State water and Federal water Pacific cod removals from the GOA not exceed ABC recommendations. Accordingly, the Council set the 2020 and 2021 Pacific cod TACs in the Western, Central, and Eastern Regulatory Areas to account for State GHLs. Therefore, the proposed 2020 and 2021 Pacific cod TACs are less than the proposed ABCs by the following amounts: (1) Western GOA, 2,909 mt; (2) Central GOA, 2,435 mt; and (3) Eastern GOA, 540 mt. These amounts reflect the State's 2020 and 2021 GHLs in these areas, which are 30 percent of the Western GOA proposed ABC, and 25 percent of the Eastern and Central GOA proposed ABCs.

NMFS also proposes seasonal apportionments of the Pacific cod TACs in the Western and Central Regulatory Areas. Sixty percent of the annual TAC is apportioned to the A season for hook-and-line, pot, and jig gear from January 1 through June 10, and for trawl gear from January 20 through June 10. Forty percent of the annual TAC is apportioned to the B season for jig gear from June 10 through December 31, for hook-and-line and pot gear from September 1 through December 31, and for trawl gear from September 1 through November 1 (§§ 679.23(d)(3) and 679.20(a)(12)). The Western and Central GOA Pacific cod TACs are allocated among various gear and operational sectors. The Pacific cod sector apportionments are discussed in detail in a subsequent section and in Table 3 of this rule.

The Council's recommendation for sablefish area apportionments takes into account the prohibition on the use of trawl gear in the SEO District of the Eastern Regulatory Area (§ 679.7(b)(1)) and makes available five percent of the combined Eastern Regulatory Area TACs to vessels using trawl gear for use as incidental catch in other trawl groundfish fisheries in the WYK District (§ 679.20(a)(4)(i)). Additional detail is provided below. Tables 4 and 5 list the proposed 2020 and 2021 allocations of the sablefish TAC to fixed gear and trawl gear in the GOA.

For 2020 and 2021, the Council recommends and NMFS proposes the OFLs, ABCs, and TACs listed in Table 1. The proposed ABCs reflect harvest amounts that are less than the specified overfishing levels. These amounts are consistent with the biological condition of groundfish stocks as described in the 2018 SAFE report, and adjusted for other biological and socioeconomic considerations, including maintaining the total TAC within the required OY range. The sum of the proposed TACs for all GOA groundfish is 408,534 mt for 2020 and 2021, which is within the OY range specified by the FMP. These proposed amounts and apportionments by area, season, and sector are subject to change pending consideration of the 2019 SAFE report and the Council's recommendations for the final 2020 and 2021 harvest specifications during its December 2019 meeting.

Table 1—Proposed 2020 and 2021 OFLs, ABCs, and TACs of Groundfish for the Western/Central/West Yakutat, Western, Central, and Eastern Regulatory Areas, the West Yakutat and Southeast Outside Districts of the Eastern Regulatory Area, and Gulfwide District of the Gulf of Alaska
[Values are rounded to the nearest metric ton]
Species | Area 1 | OFL | ABC | TAC 2
Pollock ² | Shumagin (610) | n/a | 19,939 | 19,939
| Chirikof (620) | n/a | 57,279 | 57,279
| Kodiak (630) | n/a | 24,345 | 24,345
| WYK (640) | n/a | 4,607 | 4,607
| W/C/WYK (subtotal) | 148,968 | 108,892 | 106,170
| SEO (650) | 11,697 | 8,773 | 8,773
| Total | 160,665 | 117,665 | 114,943
Pacific cod ³ | W | n/a | 9,695 | 6,787
| C | n/a | 9,738 | 7,304
| E | n/a | 2,159 | 1,619
| Total | 26,078 | 21,592 | 15,709
Sablefish ⁴ | W | n/a | 2,105 | 2,105
| C | n/a | 6,931 | 6,931
| WYK | n/a | 2,433 | 2,433
| SEO | n/a | 3,993 | 3,993
| E (WYK and SEO) (subtotal) | n/a | 6,426 | 6,426
| Total | 34,782 | 15,462 | 15,462
Shallow-water flatfish ⁵ | W | n/a | 25,952 | 13,250
| C | n/a | 26,065 | 26,065
| WYK | n/a | 2,308 | 2,308
| SEO | n/a | 1,983 | 1,983
| Total | 69,167 | 56,308 | 43,606
Deep-water flatfish ⁶ | W | n/a | 420 | 420
| C | n/a | 3,488 | 3,488
| WYK | n/a | 3,323 | 3,323
| SEO | n/a | 2,393 | 2,393
| Total | 11,581 | 9,624 | 9,624
Rex sole | W | n/a | 2,956 | 2,956
| C | n/a | 8,371 | 8,371
| WYK | n/a | 1,664 | 1,664
| SEO | n/a | 1,734 | 1,734
| Total | 17,942 | 14,725 | 14,725
Arrowtooth flounder | W | n/a | 34,765 | 14,500
| C | n/a | 68,575 | 68,575
| WYK | n/a | 15,368 | 6,900
| SEO | n/a | 22,157 | 6,900
| Total | 168,634 | 140,865 | 96,875
Flathead sole | W | n/a | 13,771 | 8,650
| C | n/a | 21,965 | 15,400
| WYK | n/a | 2,097 | 2,097
| SEO | n/a | 440 | 440
| Total | 46,666 | 38,273 | 26,587
Pacific ocean perch ⁷ | W | n/a | 3,125 | 3,125
| C | n/a | 19,024 | 19,024
| WYK | n/a | 3,192 | 3,192
| W/C/WYK | 30,128 | 25,341 | 25,341
| SEO | 2,748 | 2,311 | 2,311
| Total | 32,876 | 27,652 | 27,652
Northern rockfish ⁸ | W | n/a | 1,122 | 1,122
| C | n/a | 3,147 | 3,147
| E | n/a | 1 |
| Total | 5,093 | 4,270 | 4,269
Shortraker rockfish ⁹ | W | n/a | 44 | 44
| C | n/a | 305 | 305
| E | n/a | 514 | 514
| Total | 1,151 | 863 | 863
Dusky rockfish ¹⁰ | W | n/a | 774 | 774
| C | n/a | 2,742 | 2,742
| WYK | n/a | 94 | 94
| SEO | n/a | 60 | 60
| Total | 4,484 | 3,670 | 3,670
Rougheye and blackspotted rockfish¹¹ | W | n/a | 172 | 172
| C | n/a | 545 | 545
| E | n/a | 697 | 697
| Total | 1,699 | 1,414 | 1,414
Demersal shelf rockfish ¹² | SEO | 411 | 261 | 261
Thornyhead rockfish ¹³ | W | n/a | 326 | 326
| C | n/a | 911 | 911
| E | n/a | 779 | 779
| Total | 2,688 | 2,016 | 2,016
Other rockfish 14 15 | W/C combined | n/a | 1,737 | 1,737
| WYK | n/a | 368 | 368
| SEO | n/a | 3,489 | 3,489
| Total | 7,356 | 5,594 | 5,594
Atka mackerel | GW | 6,200 | 4,700 | 3,000
Big skates ¹⁶ | W | n/a | 504 | 504
| C | n/a | 1,774 | 1,774
| E | n/a | 570 | 570
| Total | 3,797 | 2,848 | 2,848
Longnose skates ¹⁷ | W | n/a | 149 | 149
| C | n/a | 2,804 | 2,804
| E | n/a | 619 | 619
| Total | 4,763 | 3,572 | 3,572
Other skates ¹⁸ | GW | 1,845 | 1,384 | 1,384
Sculpins | GW | 6,958 | 5,301 | 5,301
Sharks | GW | 10,913 | 8,184 | 8,184
Octopuses | GW | 1,300 | 975 | 975
Total |  | 627,049 | 487,218 | 408,534
¹ Regulatory areas and districts are defined at § 679.2. (W = Western Gulf of Alaska; C = Central Gulf of Alaska; E = Eastern Gulf of Alaska; WYK = West Yakutat District; SEO = Southeast Outside District; GW = Gulf-wide).
² The total for the W/C/WYK Regulatory Areas pollock ABC is 108,892 mt. After deducting 2.5 percent (2,722 mt) of that ABC for the State's pollock GHL fishery, the remaining pollock ABC of 106,170 mt (for the W/C/WYK Regulatory Areas) is apportioned among four statistical areas (Areas 610, 620, 630, and 640). These apportionments are considered subarea ACLs, rather than ABCs, for specification and reapportionment purposes. The ACLs in Areas 610, 620, and 630 are further divided by season, as detailed in Table 2. In the West Yakutat (Area 640) and Southeast Outside (Area 650) Districts of the Eastern Regulatory Area, pollock is not divided into seasonal allowances.
³ The annual Pacific cod TAC is apportioned 60 percent to the A season and 40 percent to the B season in the Western and Central Regulatory Areas of the GOA. Pacific cod TAC in the Eastern Regulatory Area of the GOA is allocated 90 percent to vessels harvesting Pacific cod for processing by the inshore component and 10 percent to vessels harvesting Pacific cod for processing by the offshore component. Table 3 lists the proposed 2020 and 2021 Pacific cod seasonal apportionments.
⁴ Sablefish is allocated to fixed and trawl gear in 2020 and trawl gear in 2021. Tables 4 and 5 list the proposed 2020 and 2021 allocations of sablefish TACs.
⁵ “Shallow-water flatfish” means flatfish not including “deep-water flatfish,” flathead sole, rex sole, or arrowtooth flounder.
⁶ “Deep-water flatfish” means Dover sole, Greenland turbot, Kamchatka flounder, and deepsea sole.
⁷ “Pacific ocean perch” means Sebastes alutus.
⁸ “Northern rockfish” means Sebastes polyspinous. For management purposes the 1 mt apportionment of ABC to the WYK District of the Eastern Regulatory Area has been included in the other rockfish species group.
⁹ “Shortraker rockfish” means Sebastes borealis.
¹⁰ “Dusky rockfish” means Sebastes variabilis.
¹¹ “Rougheye and blackspotted rockfish” means Sebastes aleutianus (rougheye) and Sebastes melanostictus (blackspotted).
¹² “Demersal shelf rockfish” means Sebastes pinniger (canary), S. nebulosus (china), S. caurinus (copper), S. maliger (quillback), S. helvomaculatus (rosethorn), S. nigrocinctus (tiger), and S. ruberrimus (yelloweye).
¹³ “Thornyhead rockfish” means Sebastes species.
¹⁴ “Other rockfish means Sebastes aurora (aurora), S. melanostomus (blackgill), S. paucispinis (bocaccio), S. goodei (chilipepper), S. crameri (darkblotch), S. elongatus (greenstriped), S. variegatus (harlequin), S. wilsoni (pygmy), S. babcocki (redbanded), S. proriger (redstripe), S. zacentrus (sharpchin), S. jordani (shortbelly), S. brevispinis (silvergray), S. diploproa (splitnose), S. saxicola (stripetail), S. miniatus (vermilion), S. reedi (yellowmouth), S. entomelas (widow), and S. flavidus (yellowtail). In the Eastern GOA only, “other rockfish” also includes northern rockfish (S. polyspinous).
¹⁵ “Other rockfish” in the Western and Central Regulatory Areas and in the West Yakutat District of the Eastern Regulatory Area means all rockfish species included in the “other rockfish” and demersal shelf rockfish categories. The “other rockfish” species group in the SEO District only includes other rockfish.
¹⁶ “Big skates” means Raja binoculata.
¹⁷ “Longnose skates” means Raja rhina.
¹⁸ “Other skates” means Bathyraja and Raja spp.

Proposed Apportionment of Reserves

Section 679.20(b)(2) requires NMFS to set aside 20 percent of each TAC for pollock, Pacific cod, flatfish, sculpins, sharks, and octopuses in reserve for possible apportionment at a later date during the fishing year. Section 679.20(b)(3) authorizes NMFS to reapportion all or part of these reserves. In 2019, NMFS reapportioned all of the reserves in the final harvest specifications. For 2020 and 2021, NMFS proposes reapportionment of each of the reserves for pollock, Pacific cod, flatfish, sculpins, sharks, and octopuses back into the original TAC from which the reserve was derived. NMFS expects, based on recent harvest patterns, that such reserves will not be necessary and that the entire TAC for each of these species will be caught. The TACs in Table 1 reflect this proposed reapportionment of reserve amounts to the original TAC for these species and species groups, i.e., each proposed TAC for the above-mentioned species or species groups contains the full TAC recommended by the Council.

Proposed Apportionments of Pollock TAC Among Seasons and Regulatory Areas, and Allocations for Processing by Inshore and Offshore Components

In the GOA, pollock is apportioned by season and area, and is further allocated for processing by inshore and offshore components. Pursuant to § 679.20(a)(5)(iv)(B), the annual pollock TAC specified for the Western and Central Regulatory Areas of the GOA is apportioned into four equal seasonal allowances of 25 percent. As established by § 679.23(d)(2)(i) through (iv), the A, B, C, and D season allowances are available from January 20 through March 10, March 10 through May 31, August 25 through October 1, and October 1 through November 1, respectively.

Pollock TACs in the Western and Central Regulatory Areas of the GOA are apportioned among Statistical Areas 610, 620, and 630 in propostion to the distribution of pollock biomass, pursuant to § 679.20(a)(5)(iv)(A). In the A and B seasons, the apportionments previously were in proportion to the distribution of pollock based on the four most recent NMFS winter surveys. In the C and D seasons, the apportionments were in proportion to the distribution of pollock based on the four most recent NMFS summer surveys. For 2020 and 2021, the Council recommends, and NMFS proposes, following the apportionment methodology for the A season that was previously used for the 2019 and 2020 harvest specifications. This methodology averages the winter and summer distribution of pollock in the Central Regulatory Area for the A season instead of using the distribution based on only the winter surveys. The average is intended to reflect the best available information about migration patterns, distribution of pollock, and the performance of the fishery in the area during the A season for the 2019 and 2020 fishing years. For the A season, the apportionment is based on the proposed adjusted estimate of the relative distribution of pollock biomass of approximately 3 percent, 86 percent, and 11 percent in Statistical Areas 610, 620, and 630, respectively. For the B season, the apportionment is based on the relative distribution of pollock biomass of approximately 3 percent, 86 percent, and 11 percent in Statistical Areas 610, 620, and 630, respectively. For the C and D seasons, the apportionment is based on the relative distribution of pollock biomass of approximately 37 percent, 27 percent, and 37 percent in Statistical Areas 610, 620, and 630, respectively. The pollock chapter of the 2018 SAFE report (see ADDRESSES) contains a comprehensive description of the apportionment process and reasons for the minor changes from past apportionments.

Within any fishing year, the amount by which a seasonal allowance is underharvested or overharvested may be added to, or subtracted from, subsequent seasonal allowances in a manner to be determined by the Regional Administrator (§ 679.20(a)(5)(iv)(B)). The rollover amount is limited to 20 percent of the subsequent seasonal TAC apportionment for the statistical area. Any unharvested pollock above the 20-percent limit could be further distributed to the subsequent season in the other statistical areas, in proportion to the estimated biomass to the subsequent season and in an amount no more than 20 percent of the seasonal TAC apportionment in those statistical areas (§ 679.20(a)(5)(iv)(B)). The proposed 2020 and 2021 pollock TACs in the WYK District of 4,607 mt and the SEO District of 8,773 mt are not allocated by season.

Table 2 lists the proposed 2020 and 2021 seasonal biomass distribution of pollock in the Western and Central Regulatory Areas, area apportionments, and seasonal allowances. The amounts of pollock for processing by the inshore and offshore components are not shown. Section 679.20(a)(6)(i) requires allocation of 100 percent of the pollock TAC in all regulatory areas and all seasonal allowances to vessels catching pollock for processing by the inshore component after subtraction of amounts projected by the Regional Administrator to be caught by, or delivered to, the offshore component incidental to directed fishing for other groundfish species. Thus, the amount of pollock available for harvest by vessels harvesting pollock for processing by the offshore component is the amount that will be taken as incidental catch during directed fishing for groundfish species other than pollock, up to the maximum retainable amounts allowed by § 679.20(e) and (f). At this time, the incidental catch amounts of pollock are unknown and will be determined during the 2020 fishing year.

Table 2—Proposed 2020 and 2021 Distribution of Pollock in the Central and Western Regulatory Areas of the Gulf of Alaska; Seasonal Biomass Distribution, Area Apportionments; and Seasonal Allowances of Annual TAC ¹
[Values are rounded to the nearest metric ton]
Season ² | Shumagin |  | Chirikof |  | Kodiak |  | Total ³
| (Area 610) |  | (Area 620) |  | (Area 630) |  |
A (Jan 20-Mar 10) | 680 | (2.68%) | 21,888 | (85.39%) | 2,823 | (11.12%) | 25,391
B (Mar 10-May 31) | 680 | (2.68%) | 21,888 | (85.39%) | 2,823 | (11.12%) | 25,391
C (Aug 25-Oct 1) | 9,290 | (36.59%) | 6,752 | (26.59%) | 9,349 | (36.82%) | 25,391
D (Oct 1-Nov 1) | 9,290 | (36.59%) | 6,752 | (26.59%) | 9,349 | (36.82%) | 25,391
Annual Total | 19,939 |  | 57,279 |  | 24,345 |  | 101,564
¹ Area apportionments and seasonal allowances may not total precisely due to rounding.
² As established by § 679.23(d)(2)(i) through (iv), the A, B, C, and D season allowances are available from January 20 through March 10, March 10 through May 31, August 25 through October 1, and October 1 through November 1, respectively. The amounts of pollock for processing by the inshore and offshore components are not shown in this table.
³ The West Yakutat and Southeast Outside District pollock TACs are not allocated by season and are not included in the total pollock TACs shown in this table.

Proposed Annual and Seasonal Apportionments of Pacific Cod TAC

Pursuant to § 679.20(a)(12)(i), NMFS proposes allocations for the 2020 and 2021 Pacific cod TACs in the Western and Central Regulatory Areas of the GOA among gear and operational sectors. NMFS also proposes allocating the 2020 and 2021 Pacific cod TACs annually between the inshore (90 percent) and offshore (10 percent) components in the Eastern Regulatory Area of the GOA (§ 679.20(a)(6)(ii)). In the Central GOA, the Pacific cod TAC is apportioned seasonally first to vessels using jig gear, and then among catcher vessels (CVs) less than 50 feet in length overall using hook-and-line gear, CVs equal to or greater than 50 feet in length overall using hook-and-line gear, catcher/processors (C/Ps) using hook-and-line gear, CVs using trawl gear, C/Ps using trawl gear, and vessels using pot gear (§ 679.20(a)(12)(i)(B)). In the Western GOA, the Pacific cod TAC is apportioned seasonally first to vessels using jig gear, and then among CVs using hook-and-line gear, C/Ps using hook-and-line gear, CVs using trawl gear, C/Ps using trawl gear, and vessels using pot gear (§ 679.20(a)(12)(i)(A)). The overall seasonal apportionments in the Western and Central GOA are 60 percent of the annual TAC to the A season and 40 percent of the annual TAC to the B season.

Under § 679.20(a)(12)(ii), any overage or underage of the Pacific cod allowance from the A season may be subtracted from, or added to, the subsequent B season allowance. In addition, any portion of the hook-and-line, trawl, pot, or jig sector allocations that is determined by NMFS as likely to go unharvested by a sector may be reallocated to other sectors for harvest during the remainder of the fishing year.

Pursuant to § 679.20(a)(12)(i)(A) and (B), a portion of the annual Pacific cod TACs in the Western and Central GOA will be allocated to vessels with a Federal fisheries permit that use jig gear before the TACs are apportioned among other non-jig sectors. In accordance with the FMP, the annual jig sector allocations may increase to up to 6 percent of the annual Western and Central GOA Pacific cod TACs, depending on the annual performance of the jig sector (see Table 1 of Amendment 83 to the FMP for a detailed discussion of the jig sector allocation process (76 FR 74670, December 1, 2011)). Jig sector allocation increases are established for a minimum of two years.

NMFS has evaluated the historical harvest performance of the jig sector in the Western and Central GOA, and proposes 2020 and 2021 Pacific cod apportionments to this sector based on its historical harvest performance through 2018. For 2020 and 2021, NMFS proposes that the jig sector receive 2.5 percent of the annual Pacific cod TAC in the Western GOA. This includes a base allocation of 1.5 percent and an additional performance increase of 1.0 percent. NMFS also proposes that the jig sector receive 1.0 percent of the annual Pacific cod TAC in the Central GOA. This includes a base allocation of 1.0 percent and no additional performance increase. The 2014 through 2018 Pacific cod jig allocations, catch, and percent allocation changes are listed in Figure 1.

Figure 1—Summary of Western GOA and Central GOA Pacific Cod Catch by Jig Gear in 2014 Through 2018, and Corresponding Percent Allocation Changes
Area | Year | Initial percent of TAC | Initial TAC allocation | Catch (mt) | Percent of initial allocation | >90% of initial allocation? | Change to percent allocation
WGOA | 2014 | 2.5 | 573 | 785 | 137 | Y | Increase 1%.
| 2015 | 3.5 | 948 | 55 | 6 | N | None.
| 2016 | 3.5 | 992 | 52 | 5 | N | Decrease 1%.
| 2017 | 2.5 | 635 | 49 | 8 | N | Decrease 1%.
| 2018 | 1.5 | 125 | 121 | 97 | Y | Increase 1%.
CGOA | 2014 | 2.0 | 797 | 262 | 33 | N | Decrease 1%.
| 2015 | 1.0 | 460 | 355 | 77 | N | None.
| 2016 | 1.0 | 370 | 267 | 72 | N | None.
| 2017 | 1.0 | 331 | 18 | 6 | N | None.
| 2018 | 1.0 | 61 | 0 | 0 | N | None.

NMFS will re-evaluate the annual 2019 harvest performance of the jig sector in the Western and Central GOA when the 2019 fishing year is complete to determine whether to change the jig sector allocations proposed by this action in conjunction with the final 2020 and 2021 harvest specifications. The current catch through October 2019 by the Western GOA jig sector indicates that the Pacific cod allocation percentage to this sector would probably increase by 1 percent in 2020 (from 2.5 percent to 3.5 percent). Also, the current catch by the Central GOA jig sector indicates that this sector's Pacific cod allocation percentage would not change in 2020, and would remain at 1 percent. The jig sector allocations for the Western and Central GOA are further apportioned between the A (60 percent) and B (40 percent) seasons (§§ 679.20(a)(12)(i) and 679.23(d)(3)(iii)).

Table 3 lists the seasonal apportionments and allocations of the proposed 2020 and 2021 Pacific cod TACs.

Table 3—Proposed 2020 and 2021 Seasonal Apportionments and Allocations of Pacific Cod TAC Amounts in the GOA; Allocations in the Western GOA and Central GOA Sectors, and the Eastern GOA for Processing by the Inshore and Offshore Components
[Values are rounded to the nearest metric ton]
Regulatory area and sector | Annual allocation (mt) | A Season: Sector percentage of annual non-jig TAC | A Season: Seasonal allowances (mt) | B Season: Sector percentage of annual non-jig TAC | B Season: Seasonal allowances (mt)
Western GOA
Jig (2.5% of TAC) | 170 | N/A | 102 | N/A | 68
Hook-and-line CV | 93 | 0.70 | 46 | 0.70 | 46
Hook-and-line C/P | 1,310 | 10.90 | 721 | 8.90 | 589
Trawl CV | 2,541 | 27.70 | 1,833 | 10.70 | 708
Trawl C/P | 159 | 0.90 | 60 | 1.50 | 99
Pot CV and Pot C/P | 2,514 | 19.80 | 1,310 | 18.20 | 1,204
Total | 6,787 | 60.00 | 4,072 | 40.00 | 2,715
Central GOA
Jig (1.0% of TAC) | 73 | N/A | 44 | N/A | 29
Hook-and-line <50 CV | 1,056 | 9.32 | 674 | 5.29 | 382
Hook-and-line ≥50 CV | 485 | 5.61 | 406 | 1.10 | 79
Hook-and-line C/P | 369 | 4.11 | 297 | 1.00 | 72
Trawl CV ¹ | 3,007 | 21.13 | 1,528 | 20.45 | 1,479
Trawl C/P | 304 | 2.00 | 145 | 2.19 | 159
Pot CV and Pot C/P | 2,010 | 17.83 | 1,289 | 9.97 | 721
Total | 7,304 | 60.00 | 4,382 | 40.00 | 2,921
Eastern GOA |  | Inshore (90% of Annual TAC) |  | Offshore (10% of Annual TAC)
| 1,619 | 1,457 |  | 162
¹ Trawl catcher vessels participating in Rockfish Program cooperatives receive 3.81 percent, or 278 mt, of the annual Central GOA Pacific cod TAC (see Table 28c to 50 CFR part 679). This apportionment is deducted from the Trawl CV B season allowance (see Table 8: Apportionments of Rockfish Secondary Species in the Central GOA and Table 28c to 50 CFR part 679).

Proposed Allocations of the Sablefish TAC Amounts to Vessels Using Fixed Gear and Trawl Gear

Section 679.20(a)(4)(i) and (ii) requires allocations of sablefish TACs for each of the regulatory areas and districts to fixed and trawl gear. In the Western and Central Regulatory Areas, 80 percent of each TAC is allocated to fixed gear, and 20 percent of each TAC is allocated to trawl gear. In the Eastern Regulatory Area, 95 percent of the TAC is allocated to fixed gear, and 5 percent is allocated to trawl gear. The trawl gear allocation in the Eastern Regulatory Area may be used only to support incidental catch of sablefish while directed fishing for other target species using trawl gear (§ 679.20(a)(4)(i)).

In recognition of the prohibition against trawl gear in the SEO District of the Eastern Regulatory Area, the Council recommended and NMFS proposes specifying for incidental catch the allocation of 5 percent of the combined Eastern Regulatory Area sablefish TAC to trawl gear in the WYK District. The remainder of the WYK sablefish TAC is allocated to vessels using fixed gear. This proposed action allocates 100 percent of the sablefish TAC in the SEO District to vessels using fixed gear. This results in a proposed 2020 allocation of 321 mt to trawl gear and 2,112 mt to fixed gear in the WYK District, a proposed 2020 allocation of 3,993 mt to fixed gear in the SEO District, and a proposed 2021 allocation of 321 mt to trawl gear in the WYK District. Table 4 lists the allocations of the proposed 2020 sablefish TACs to fixed and trawl gear. Table 5 lists the allocations of the proposed 2021 sablefish TACs to trawl gear.

The Council recommended that the trawl sablefish TAC be established for two years so that retention of incidental catch of sablefish by trawl gear could commence in January in the second year of the groundfish harvest specifications. Tables 4 and 5 list the proposed 2020 and 2021 trawl allocations, respectively.

The Council recommended that the fixed gear sablefish TAC be established annually to ensure that the sablefish IFQ fishery is conducted concurrently with the halibut IFQ fishery and is based on the most recent survey information. Since there is an annual assessment for sablefish and since the final harvest specifications are expected to be published before the IFQ season begins (typically, in early March), the Council recommended that the fixed gear sablefish TAC be set annually, rather than for 2 years, so that the best available scientific information could be considered in establishing the sablefish ABCs and TACs. Accordingly, Table 4 lists the proposed 2020 fixed gear allocations, and the 2021 fixed gear allocations will be specified in the 2021 and 2022 harvest specifications.

With the exception of the trawl allocations that are provided to the Rockfish Program (see Table 28c to 50 CFR part 679), directed fishing for sablefish with trawl gear is closed during the fishing year. Also, fishing for groundfish with trawl gear is prohibited prior to January 20 (§ 679.23(c)). Therefore, it is not likely that the sablefish allocation to trawl gear would be reached before the effective date of the final 2021 and 2022 harvest specifications.

Table 4—Proposed 2020 Sablefish TAC Amounts in the Gulf of Alaska and Allocations to Fixed and Trawl Gear
[Values are rounded to the nearest metric ton]
Area/district | TAC | Fixed gear allocation | Trawl allocation
Western | 2,105 | 1,684 | 421
Central ¹ | 6,931 | 5,545 | 1,386
West Yakutat ² | 2,433 | 2,112 | 321
Southeast Outside | 3,993 | 3,993 | 0
Total | 15,462 | 13,334 | 2,129
¹ The trawl allocation of sablefish to the Central Regulatory Area is further apportioned to the Rockfish Program cooperatives (713 mt). See Table 8: Apportionments of Rockfish Secondary Species in the Central GOA. This results in 673 mt being available for the non-Rockfish Program trawl fisheries.
² The proposed trawl allocation is based on allocating 5 percent of the combined Eastern Regulatory Area (West Yakutat and Southeast Outside Districts combined) sablefish TAC to trawl gear in the West Yakutat District.

Table 5—Proposed 2021 Sablefish TAC Amounts in the Gulf of Alaska and Allocation to Trawl Gear ¹
[Values are rounded to the nearest metric ton]
Area/district | TAC | Fixed gear allocation | Trawl allocation
Western | 2,105 | n/a | 421
Central ² | 6,931 | n/a | 1,386
West Yakutat ³ | 2,433 | n/a | 321
Southeast Outside | 3,993 | n/a | 0
Total | 15,462 | n/a | 2,129
¹ The Council recommended that harvest specifications for the fixed gear sablefish Individual Fishing Quota fisheries be limited to 1 year.
² The trawl allocation of sablefish to the Central Regulatory Area is further apportioned to the Rockfish Program cooperatives (713 mt). See Table 8: Apportionments of Rockfish Secondary Species in the Central GOA. This results in 673 mt being available for the non-Rockfish Program trawl fisheries.
³ The proposed trawl allocation is based on allocating 5 percent of the combined Eastern Regulatory Area (West Yakutat and Southeast Outside Districts combined) sablefish TAC to trawl gear in the West Yakutat District.

Proposed Allocations, Apportionments, and Sideboard Limitations for the Rockfish Program

These proposed 2020 and 2021 harvest specifications for the GOA include the fishery cooperative allocations and sideboard limitations established by the Rockfish Program. Program participants are primarily trawl CVs and trawl C/Ps, with limited participation by vessels using longline gear. The Rockfish Program assigns quota share and cooperative quota to participants for primary species (Pacific ocean perch, northern rockfish, and dusky rockfish) and secondary species (Pacific cod, rougheye rockfish, sablefish, shortraker rockfish, and thornyhead rockfish), allows a participant holding a license limitation program (LLP) license with rockfish quota share to form a rockfish cooperative with other persons, and allows holders of C/P LLP licenses to opt out of the fishery. The Rockfish Program also has an entry level fishery for rockfish primary species for vessels using longline gear. Longline gear includes hook-and-line, jig, troll, and handline gear.

Under the Rockfish Program, rockfish primary species in the Central GOA are allocated to participants after deducting for incidental catch needs in other directed fisheries (§ 679.81(a)(2)). Participants in the Rockfish Program also receive a portion of the Central GOA TAC of specific secondary species. In addition to groundfish species, the Rockfish Program allocates a portion of the halibut PSC limit (191 mt) from the third season deep-water species fishery allowance for the GOA trawl fisheries to Rockfish Program participants (§ 679.81(d) and Table 28d to 50 CFR part 679). The Rockfish Program also establishes sideboard limits to restrict the ability of harvesters that operate under the Rockfish Program to increase their participation in other, non-Rockfish Program fisheries. These restrictions and halibut PSC limits are discussed in a subsequent section titled “Rockfish Program Groundfish Sideboard and Halibut PSC Limitations.”

Section 679.81(a)(2)(ii) and Table 28e to 50 CFR part 679 require allocations of 5 mt of Pacific ocean perch, 5 mt of northern rockfish, and 50 mt of dusky rockfish to the entry level longline fishery in 2020 and 2021. The allocation for the entry level longline fishery may increase incrementally each year if the catch exceeds 90 percent of the allocation of a species. The incremental increase in the allocation would continue each year until it reaches the maximum percentage of the TAC for that species. In 2019, the catch for all three primary species did not exceed 90 percent of any allocated rockfish species. Therefore, NMFS is not proposing any increases to the entry level longline fishery 2020 and 2021 allocations in the Central GOA. The remainder of the TACs for the rockfish primary species would be allocated to the CV and C/P cooperatives (§ 679.81(a)(2)(iii)). Table 6 lists the allocations of the proposed 2020 and 2021 TACs for each rockfish primary species to the entry level longline fishery, the potential incremental increases for future years, and the maximum percentages of the TACs for the entry level longline fishery.

Table 6—Proposed 2020 and 2021 Allocations of Rockfish Primary Species to the Entry Level Longline Fishery in the Central Gulf of Alaska
Rockfish primary species | 2020 and 2021 allocations | Incremental increase in 2021 if >90 percent of 2020 allocation is harvested | Up to maximum percent of each TAC of:
Pacific ocean perch | 5 metric tons | 5 metric tons | 1%
Northern rockfish | 5 metric tons | 5 metric tons | 2%
Dusky rockfish | 50 metric tons | 20 metric tons | 5%

Section 679.81 requires allocations of rockfish primary species among various sectors of the Rockfish Program. Table 7 lists the proposed 2020 and 2021 allocations of rockfish primary species in the Central GOA to the entry level longline fishery, and rockfish CV and C/P cooperatives in the Rockfish Program. NMFS also proposes setting aside incidental catch amounts (ICAs) for other directed fisheries in the Central GOA of 3,000 mt of Pacific ocean perch, 300 mt of northern rockfish, and 250 mt of dusky rockfish. These amounts are based on recent average incidental catches in the Central GOA by other groundfish fisheries.

Allocations among vessels belonging to CV or C/P cooperatives are not included in these proposed harvest specifications. Rockfish Program applications for CV cooperatives and C/P cooperatives are not due to NMFS until March 1 of each calendar year; therefore, NMFS cannot calculate 2020 and 2021 allocations in conjunction with these proposed harvest specifications. NMFS will post the 2020 allocations on the Alaska Region website at https://www.fisheries.noaa.gov/alaska/sustainable-fisheries/alaska-fisheries-management-reports#central-goa-rockfish when they become available after March 1.

Table 7—Proposed 2020 and 2021 Allocations of Rockfish Primary Species in the Central Gulf of Alaska to the Entry Level Longline Fishery and Rockfish Coooperatives in the Rockfish Program
[Values are rounded to the nearest metric ton]
Rockfish primary species | Central GOA TAC | Incidental catch allowance (ICA) | TAC minus ICA | Allocation to the entry level longline¹ fishery | Allocation to the rockfish cooperatives²
Pacific ocean perch | 19,024 | 3,000 | 16,024 | 5 | 16,019
Northern rockfish | 3,147 | 300 | 2,847 | 5 | 2,842
Dusky rockfish | 2,742 | 250 | 2,492 | 50 | 2,442
Total | 24,913 | 3,550 | 21,363 | 60 | 21,303
¹ Longline gear includes hook-and-line, jig, troll, and handline gear (§ 679.2).
² Rockfish cooperatives include vessels in CV and C/P cooperatives (§ 679.81).

Section 679.81(c) and Table 28c to 50 CFR part 679 requires allocations of rockfish secondary species to CV and C/P cooperatives in the Central GOA. CV cooperatives receive allocations of Pacific cod, sablefish from the trawl gear allocation, and thornyhead rockfish. C/P cooperatives receive allocations of sablefish from the trawl gear allocation, rougheye and blackspotted rockfish, shortraker rockfish, and thornyhead rockfish. Table 8 lists the apportionments of the proposed 2020 and 2021 TACs of rockfish secondary species in the Central GOA to CV and C/P cooperatives.

Table 8—Proposed 2020 and 2021 Apportionments of Rockfish Secondary Species in the Central GOA to Catcher Vessel and Catcher/Processor Cooperatives
[Values are in metric tons]
Rockfish secondary species | Central GOA annual TAC | Catcher vessel cooperatives: Percentage of TAC | Catcher vessel cooperatives: Apportionment (mt) | Catcher/processor cooperatives: Percentage of TAC | Catcher/processor cooperatives: Apportionment (mt)
Pacific cod | 7,304 | 3.81 | 278 | 0.0 | 0
Sablefish | 6,931 | 6.78 | 470 | 3.51 | 243
Shortraker rockfish | 305 | 0.0 | 0 | 40.00 | 122
Rougheye and blackspotted rockfish | 545 | 0.0 | 0 | 58.87 | 321
Thornyhead rockfish | 911 | 7.84 | 71 | 26.50 | 241

Halibut PSC Limits

Section 679.21(d) establishes annual halibut PSC limit apportionments to trawl and hook-and-line gear, and authorizes the establishment of apportionments for pot gear. In October 2019, the Council recommended, and NMFS now proposes, halibut PSC limits of 1,706 mt for trawl gear, 257 mt for hook-and-line gear, and 9 mt for the demersal shelf rockfish (DSR) fishery in the SEO District.

The DSR fishery in the SEO District is defined at § 679.21(d)(2)(ii)(A). This fishery is apportioned 9 mt of the halibut PSC limit in recognition of its small-scale harvests of groundfish (§ 679.21(d)(2)(i)(A)). The separate halibut PSC limit for the DSR fishery is intended to prevent that fishery from being impacted from the halibut PSC incurred by other GOA fisheries. NMFS estimates low halibut bycatch in the DSR fishery because (1) the duration of the DSR fisheries and the gear soak times are short, (2) the DSR fishery occurs in the winter when there is less overlap in the distribution of DSR and halibut, and (3) the directed commercial DSR fishery has a low DSR TAC. The Alaska Department of Fish and Game sets the commercial GHL for the DSR fishery after deducting (1) estimates of DSR incidental catch in all fisheries (including halibut and subsistence); and (2) the allocation to the DSR sport fish fishery. Of the 261 mt TAC for DSR in 2019, 25 mt were available for directed fishing by the DSR commercial fishery, of which 18 mt were harvested (through September 25, 2019).

The FMP authorizes the Council to exempt specific gear from the halibut PSC limits. NMFS, after consultation with the Council, proposes to exempt pot gear, jig gear, and the sablefish IFQ hook-and-line gear fishery categories from the non-trawl halibut PSC limit for 2020 and 2021. The Council recommended, and NMFS is proposing, these exemptions because (1) pot gear fisheries have low annual halibut bycatch mortality; (2) IFQ program regulations prohibit discard of halibut if any halibut IFQ permit holder on board a CV holds unused halibut IFQ for that vessel category and the IFQ regulatory area in which the vessel is operating (§ 679.7(f)(11)); (3) some sablefish IFQ permit holders hold halibut IFQ permits and are therefore required to retain the halibut they catch while fishing sablefish IFQ; and (4) NMFS estimates negligible halibut mortality for the jig gear fisheries given the small amount of groundfish harvested by jig gear, the selective nature of jig gear, and the high survival rates of halibut caught and released with jig gear.

The best available information on estimated halibut bycatch consists of data collected by fisheries observers during 2019. The calculated halibut bycatch mortality through October 5, 2019 is 818 mt for trawl gear and 48 mt for hook-and-line gear for a total halibut mortality of 866 mt. This halibut mortality was calculated using groundfish and halibut catch data from the NMFS Alaska Region's catch accounting system. This accounting system contains historical and recent catch information compiled from each Alaska groundfish fishery.

Section 679.21(d)(4)(i) and (ii) authorizes NMFS to seasonally apportion the halibut PSC limits after consultation with the Council. The FMP and regulations require that the Council and NMFS consider the following information in seasonally apportioning halibut PSC limits: (1) Seasonal distribution of halibut, (2) seasonal distribution of target groundfish species relative to halibut distribution, (3) expected halibut bycatch needs on a seasonal basis relative to changes in halibut biomass and expected catch of target groundfish species, (4) expected bycatch rates on a seasonal basis, (5) expected changes in directed groundfish fishing seasons, (6) expected actual start of fishing effort, and (7) economic effects of establishing seasonal halibut allocations on segments of the target groundfish industry. Based on public comment, the information presented in the 2019 SAFE report, and catch data from NMFS, the State, or the International Pacific Halibut Commission (IPHC), the Council may recommend or NMFS may make changes to the seasonal, gear-type, or fishery category apportionments of halibut PSC limits for the final 2020 and 2021 harvest specifications pursuant to § 679.21(d)(1) and (d)(4).

The final 2019 and 2020 harvest specifications (84 FR 9416, March 14, 2019) summarized the Council's and NMFS's findings for these FMP and regulatory considerations with respect to halibut PSC limits. The Council's and NMFS's proposed findings for these proposed 2020 and 2021 harvest specifications are unchanged from the final 2019 and 2020 harvest specifications. Table 9 lists the proposed 2020 and 2021 Pacific halibut PSC limits, allowances, and apportionments. The halibut PSC limits in these tables reflect the halibut PSC limits set forth at § 679.21(d)(2) and (3). Section 679.21(d)(4)(iii) and (iv) specifies that any underages or overages of a seasonal apportionment of a halibut PSC limit will be added to or deducted from the next respective seasonal apportionment within the fishing year.

Table 9—Proposed 2020 and 2021 Pacific Halibut PSC Limits, Allowances, and Apportionments
[Values are in metric tons]
Trawl gear: Season | Trawl gear: Percent | Trawl gear: Amount | Hook-and-line gear ¹: Other than DSR: Season | Hook-and-line gear ¹: Other than DSR: Percent | Hook-and-line gear ¹: Other than DSR: Amount | Hook-and-line gear ¹: DSR: Season | Hook-and-line gear ¹: DSR: Amount
January 20-April 1 | 30.5 | 519 | January 1-June 10 | 86 | 221 | January 1-December 31 | 9
April 1-July 1 | 20 | 341 | June 10-September 1 | 2 | 5 |  |
July 1-August 1 | 27 | 462 | September 1-December 31 | 12 | 31 |  |
August 1-October 1 | 7.5 | 128 |  |  |  |  |
October 1-December 31 | 15 | 256 |  |  |  |  |
Total |  | 1,706 |  |  | 257 |  | 9
¹ The Pacific halibut prohibited species catch (PSC) limit for hook-and-line gear is allocated to the demersal shelf rockfish (DSR) fishery and fisheries other than DSR. The Council recommended and NMFS proposes that the hook-and-line sablefish fishery, and the pot and jig gear groundfish fisheries, be exempt from halibut PSC limits.

Section 679.21(d)(3)(ii) authorizes further apportionment of the trawl halibut PSC limit as bycatch allowances to trawl fishery categories listed in § 679.21(d)(3)(iii). The annual apportionments are based on each category's share of the anticipated halibut bycatch mortality during a fishing year and optimization of the total amount of groundfish harvest under the halibut PSC limit. The fishery categories for the trawl halibut PSC limits are (1) a deep-water species fishery, composed of sablefish, rockfish, deep-water flatfish, rex sole, and arrowtooth flounder; and (2) a shallow-water species fishery, composed of pollock, Pacific cod, shallow-water flatfish, flathead sole, Atka mackerel, skates, and “other species” (sculpins, sharks, and octopuses) (§ 679.21(d)(3)(iii)). Halibut mortality incurred while directed fishing for skates with trawl gear accrues towards the shallow-water species fishery halibut PSC limit (69 FR 26320, May 12, 2004). Table 10 lists the proposed 2020 and 2021 seasonal apportionments of trawl halibut PSC limits between the trawl gear deep-water and the shallow-water species fisheries.

NMFS will combine available trawl halibut PSC limit apportionments in part of the second season deep-water and shallow-water species fisheries for use in either fishery from May 15 through June 30 (§ 679.21(d)(4)(iii)(D)). This is intended to maintain groundfish harvest while minimizing halibut bycatch by these sectors to the extent practicable. This provides the trawl gear deep-water and shallow-water species fisheries additional flexibility and the incentive to participate in fisheries at times of the year that may have lower halibut PSC rates relative to other times of the year.

Table 28d to 50 CFR part 679 specifies the amount of the trawl halibut PSC limit that is assigned to the CV and C/P sectors that are participating in the Central GOA Rockfish Program. This includes 117 mt of halibut PSC limit to the CV sector and 74 mt of halibut PSC limit to the C/P sector. These amounts are allocated from the trawl deep-water species fishery's halibut PSC third seasonal apportionment. After the combined CV and C/P halibut PSC limit allocation of 191 mt to the Rockfish Program, 150 mt remains for the trawl deep-water species fishery's halibut PSC third seasonal apportionment.

Section 679.21(d)(4)(iii)(B) limits the amount of the halibut PSC limit allocated to Rockfish Program participants that could be re-apportioned to the general GOA trawl fisheries to no more than 55 percent of the unused annual halibut PSC limit apportioned to Rockfish Program participants. The remainder of the unused Rockfish Program halibut PSC limit is unavailable for use by any person for the remainder of the fishing year (§ 679.21(d)(4)(iii)(C)).

Table 10—Proposed 2020 and 2021 Seasonal Apportionments of the Pacific Halibut PSC Limit Apportioned Between the Trawl Gear Shallow-Water and Deep-Water Species Fisheries
[Values are in metric tons]
Season | Shallow-water | Deep-water ¹ | Total
January 20-April 1 | 384 | 135 | 519
April 1-July 1 | 85 | 256 | 341
July 1-August 1 | 121 | 341 | 462
August 1-October 1 | 53 | 75 | 128
Subtotal, January 20-October 1 | 643 | 807 | 1,450
October 1-December 31 ² |  |  | 256
Total |  |  | 1,706
¹ Vessels participating in cooperatives in the Rockfish Program will receive 191 mt of the third season (July 1 through August 1) deep-water species fishery halibut PSC apportionment.
² There is no apportionment between trawl shallow-water and deep-water species fisheries during the fifth season (October 1 through December 31).

Section 679.21(d)(2) requires that the “other hook-and-line fishery” halibut PSC limit apportionment to vessels using hook-and-line gear be divided between CVs and C/Ps. NMFS must calculate the halibut PSC limit apportionments for the entire GOA to hook-and-line CVs and C/Ps in accordance with § 679.21(d)(2)(iii) and in conjunction with these harvest specifications. A comprehensive description and example of the calculations necessary to apportion the “other hook-and-line fishery” halibut PSC limit between the hook-and-line CV and C/P sectors were included in the proposed rule to implement Amendment 83 to the FMP (76 FR 44700, July 26, 2011) and are not repeated here.

For 2020 and 2021, NMFS proposes annual halibut PSC limit apportionments of 120 mt and 137 mt to the hook-and-line CV and hook-and-line C/P sectors, respectively. The 2020 and 2021 annual halibut PSC limits are divided into three seasonal apportionments, using seasonal percentages of 86 percent, 2 percent, and 12 percent. Table 11 lists the proposed 2020 and 2021 annual halibut PSC limits and seasonal apportionments between the hook-and-line CV and hook-and-line C/P sectors in the GOA.

No later than November 1 each year, any halibut PSC limit allocated under § 679.21(d)(2)(ii)(B) not projected by the Regional Administrator to be used by one of the hook-and-line sectors during the remainder of the fishing year will be made available to the other sector. NMFS calculates the projected unused amount of halibut PSC limit by either the CV hook-and-line or the C/P hook-and-line sectors of the “other hook-and-line fishery” for the remainder of the year. The projected unused amount of halibut PSC limit by either of these sectors is made available to the remaining hook-and-line sector for the remainder of that fishing year if NMFS determines that an additional amount of halibut PSC limit is necessary for that sector to continue its directed fishing operations (§ 679.21(d)(2)(iii)(C)).

Table 11—Proposed 2020 and 2021 Apportionments of the “Other Hook-and-Line Fisheries” Halibut PSC Allowance Between the Hook-and-Line Gear Catcher Vessel and Catcher/Processor Sectors
[Values are in metric tons]
“Other than DSR” allowance | Hook-and-line sector | Sector annual amount | Season | Seasonal percentage | Sector seasonal amount
257 | Catcher Vessel | 120 | January 1-June 10 June 10-September 1 September 1-December 31 | 86 2 12 | 103 2 14
| Catcher/Processor | 137 | January 1-June 10 June 10-September 1 September 1-December 31 | 86 2 12 | 118 3 16

Halibut Discard Mortality Rates

To monitor halibut bycatch mortality allowances and apportionments, the Regional Administrator uses observed halibut incidental catch rates, halibut discard mortality rates (DMRs), and estimates of groundfish catch to project when a fishery's halibut bycatch mortality allowance or seasonal apportionment is reached. Halibut incidental catch rates are based on observers' estimates of halibut incidental catch in the groundfish fishery. DMRs are estimates of the proportion of incidentally caught halibut that do not survive after being returned to the sea. The cumulative halibut mortality that accrues to a particular halibut PSC limit is the product of a DMR multiplied by the estimated halibut PSC. DMRs are estimated using the best scientific information available in conjunction with the annual GOA stock assessment process. The DMR methodology and findings are included as an appendix to the annual GOA groundfish SAFE report.

In 2016, the DMR estimation methodology underwent revisions per the Council's directive. An interagency halibut working group (IPHC, Council, and NMFS staff) developed improved estimation methods that have undergone review by the Plan Team, the SSC, and the Council. A summary of the revised methodology is contained in the GOA proposed 2017 and 2018 harvest specifications (81 FR 87881, December 6, 2016), and the comprehensive discussion of the working group's statistical methodology is available from the Council (see ADDRESSES). The DMR working group's revised methodology is intended to improve estimation accuracy, transparency, and transferability in the methodology used for calculating DMRs. The working group will continue to consider improvements to the methodology used to calculate halibut mortality, including potential changes to the reference period (the period of data used for calculating the DMRs). Future DMRs may change based on additional years of observer sampling, which could provide more recent and accurate data and which could improve the accuracy of estimation and progress on methodology. The methodology will continue to ensure that NMFS is using DMRs that more accurately reflect halibut mortality, which will inform the different sectors of their estimated halibut mortality and allow specific sectors to respond with methods that could reduce mortality and, eventually, the DMR for that sector.

In October 2019, the Council recommended adopting the halibut DMRs derived from the revised methodology for the proposed 2020 and 2021 DMRs. The proposed 2020 and 2021 DMRs use an updated 2-year reference period of 2017 and 2018. Comparing the proposed 2020 and 2021 DMRs to the final DMRs from the 2019 and 2020 harvest specifications, the proposed DMR for Rockfish Program CVs using non-pelagic trawl gear increased to 52 percent from 49 percent, the proposed DMR for non-Rockfish Program C/Vs using non-pelagic trawl gear increased to 68 percent from 67 percent, the proposed DMR for C/Ps and motherships using non-pelagic trawl gear decreased to 75 percent from 79 percent, the proposed DMR for CVs using hook-and-line gear decreased to 13 percent from 21 percent, and the proposed DMR for C/Ps and CVs using pot gear decreased to 0 percent from 4 percent. Table 12 lists the proposed 2020 and 2021 DMRs.

Table 12—Proposed 2020 and 2021 Discard Mortality Rates for Vessels Fishing in the Gulf of Alaska
[Values are percent of halibut assumed to be dead]
Gear | Sector | Groundfish fishery | Halibut discard mortality rate (percent)
Pelagic trawl | Catcher vessel | All | 100
| Catcher/processor | All | 100
Non-pelagic trawl | Catcher vessel | Rockfish Program | 52
| Catcher vessel | All others | 68
| Mothership and catcher/processor | All | 75
Hook-and-line | Catcher/processor | All | 11
| Catcher vessel | All | 13
Pot | Catcher vessel and catcher/processor | All | 0

Chinook Salmon Prohibited Species Catch Limits

Amendment 93 to the FMP (77 FR 42629, July 20, 2012) established separate Chinook salmon PSC limits in the Western and Central regulatory areas of the GOA in the pollock trawl directed fishery. These limits require that NMFS close directed fishing for pollock in the Western and Central GOA if the applicable Chinook salmon PSC limit is reached (§ 679.21(h)(8)). The annual Chinook salmon PSC limits in the pollock trawl directed fishery of 6,684 salmon in the Western GOA and 18,316 salmon in the Central GOA are set in § 679.21(h)(2)(i) and (ii).

Amendment 97 to the FMP (79 FR 71350, December 2, 2014) established an initial annual PSC limit of 7,500 Chinook salmon for the non-pollock groundfish trawl fisheries in the Western and Central GOA. This limit is apportioned among three sectors: 3,600 Chinook salmon to trawl C/Ps; 1,200 Chinook salmon to trawl CVs participating in the Rockfish Program; and 2,700 Chinook salmon to trawl CVs not participating in the Rockfish Program (§ 679.21(h)(4)). NMFS will monitor the Chinook salmon PSC in the non-pollock GOA groundfish fisheries and close an applicable sector if it reaches its Chinook salmon PSC limit.

The Chinook salmon PSC limit for two sectors, trawl C/Ps and trawl CVs not participating in the Rockfish Program, may be increased in subsequent years based on the performance of these two sectors and their ability to minimize their use of their respective Chinook salmon PSC limits. If either or both of these two sectors limit its use of Chinook salmon PSC to a certain threshold amount in 2019 (3,120 for trawl C/Ps and 2,340 for non-Rockfish Program trawl CVs), that sector will receive an increase to its 2020 Chinook salmon PSC limit (4,080 for trawl C/Ps and 3,060 for non-Rockfish Program trawl CVs) (§ 679.21(h)(4)). NMFS will evaluate the annual Chinook salmon PSC by trawl C/Ps and non-Rockfish Program trawl CVs when the 2019 fishing year is complete to determine whether to increase the Chinook salmon PSC limits for these two sectors. Based on preliminary 2019 Chinook salmon PSC data, the trawl C/P sector may receive an incremental increase of Chinook salmon PSC limit in 2020, and the non-Rockfish Program trawl CV sector may not receive an incremental increase of Chinook salmon PSC limit in 2020. This evaluation will be completed in conjunction with the final 2020 and 2021 harvest specifications.

AFA C/P and CV Groundfish Sideboard Limits

Section 679.64 establishes groundfish harvesting and processing sideboard limits on AFA C/Ps and CVs in the GOA. These sideboard limits are necessary to protect the interests of fishermen and processors who do not directly benefit from the AFA from those fishermen and processors who receive exclusive harvesting and processing privileges under the AFA. Section 679.7(k)(1)(ii) prohibits listed AFA C/Ps and C/Ps designated on a listed AFA C/P permit from harvesting any species of fish in the GOA. Additionally, § 679.7(k)(1)(iv) prohibits listed AFA C/Ps and C/Ps designated on a listed AFA C/P permit from processing any pollock harvested in a directed pollock fishery in the GOA and any groundfish harvested in Statistical Area 630 of the GOA.

AFA CVs that are less than 125 ft (38.1 meters) length overall, have annual landings of pollock in the Bering Sea and Aleutian Islands of less than 5,100 mt, and have made at least 40 landings of GOA groundfish from 1995 through 1997 are exempt from GOA CV groundfish sideboard limits under § 679.64(b)(2)(ii). Sideboard limits for non-exempt AFA CVs in the GOA are based on their traditional harvest levels of TAC in groundfish fisheries covered by the FMP. Section 679.64(b)(3)(iv) establishes for CVs the groundfish sideboard limits in the GOA based on the aggregate retained catch of non-exempt AFA CVs of each sideboard species from 1995 through 1997 divided by the TAC for that species over the same period.

NMFS published a final rule (84 FR 2723, February 8, 2019) that implemented regulations to prohibit non-exempt AFA CVs from directed fishing for specific groundfish species or species groups subject to sideboard limits (§ 679.20(d)(1)(iv)(D) and Table 56 to 50 CFR part 679). Sideboard limits not subject to the final rule continue to be calculated and included in the GOA annual harvest specifications.

Table 13 lists the proposed 2020 and 2021 groundfish sideboard limits for non-exempt AFA CVs. NMFS will deduct all targeted or incidental catch of sideboard species made by non-exempt AFA CVs from the sideboard limits listed in Table 13.

Table 13—Proposed 2020 and 2021 GOA Non-Exempt American Fisheries Act Catcher Vessel (CV) Groundfish Sideboard Limits
[Values are rounded to the nearest metric ton]
Species | Apportionments by season/gear | Area/component | Ratio of 1995-1997 non-exempt AFA CV catch to 1995-1997 TAC | Proposed 2020 and 2021 TACs ³ | Proposed 2020 and 2021 non-exempt AFA CV sideboard limit
Pollock | A Season | Shumagin (610) | 0.6047 | 680 | 411
| January 20-March 10 | Chirikof (620) | 0.1167 | 21,888 | 2,554
|  | Kodiak (630) | 0.2028 | 2,823 | 573
| B Season | Shumagin (610) | 0.6047 | 680 | 411
| March 10-May 31 | Chirikof (620) | 0.1167 | 21,888 | 2,554
|  | Kodiak (630) | 0.2028 | 2,823 | 573
| C Season | Shumagin (610) | 0.6047 | 9,290 | 5,617
| August 25-October 1 | Chirikof (620) | 0.1167 | 6,752 | 788
|  | Kodiak (630) | 0.2028 | 9,349 | 1,896
| D Season | Shumagin (610) | 0.6047 | 9,290 | 5,617
| October 1-November 1 | Chirikof (620) | 0.1167 | 6,752 | 788
|  | Kodiak (630) | 0.2028 | 9,349 | 1,896
| Annual | WYK (640) | 0.3495 | 4,607 | 1,610
|  | SEO (650) | 0.3495 | 8,773 | 3,066
Pacific cod | A Season ¹ | W | 0.1331 | 4,072 | 542
| January 1-June 10 | C | 0.0692 | 4,382 | 303
| B Season ² | W | 0.1331 | 2,715 | 361
| September 1-December 31 | C | 0.0692 | 2,921 | 202
Flatfish, shallow-water | Annual | W C | 0.0156 0.0587 | 13,250 26,065 | 207 1,530
Flatfish, deep-water | Annual | C E | 0.0647 0.0128 | 3,488 5,716 | 226 73
Rex sole | Annual | C | 0.0384 | 8,371 | 321
Arrowtooth flounder | Annual | C | 0.0280 | 68,575 | 1,920
Flathead sole | Annual | C | 0.0213 | 15,400 | 328
Pacific ocean perch | Annual | C E | 0.0748 0.0466 | 19,024 5,503 | 1,423 256
Northern rockfish | Annual | C | 0.0277 | 3,147 | 87
¹ The Pacific cod A season for trawl gear does not open until January 20.
² The Pacific cod B season for trawl gear closes November 1.
³ The Western and Central GOA and WYK District area apportionments of pollock are considered ACLs.

Non-Exempt AFA Catcher Vessel Halibut PSC Sideboard Limits

The halibut PSC sideboard limits for non-exempt AFA CVs in the GOA are based on the aggregate retained groundfish catch by non-exempt AFA CVs in each PSC target category from 1995 through 1997 divided by the retained catch of all vessels in that fishery from 1995 through 1997 (§ 679.64(b)(4)(ii)). Table 14 lists the proposed 2020 and 2021 non-exempt AFA CV halibut PSC sideboard limits for vessels using trawl gear in the GOA.

Table 14—Proposed 2020 and 2021 Non-Exempt American Fisheries Act Catcher Vessel Halibut PSC Sideboard Limits for Vessels Using Trawl Gear in the GOA
[PSC limits are rounded to the nearest metric ton]
Season | Season dates | Fishery category | Ratio of 1995-1997 non-exempt AFA CV retained catch to total retained catch | Proposed 2020 and 2021 PSC limit | Proposed 2020 and 2021 non-exempt AFA CV PSC limit
1 | January 20-April 1 | shallow-water | 0.340 | 384 | 131
|  | deep-water | 0.070 | 135 | 9
2 | April 1-July 1 | shallow-water | 0.340 | 85 | 29
|  | deep-water | 0.070 | 256 | 18
3 | July 1—August 1 | shallow-water | 0.340 | 121 | 41
|  | deep-water | 0.070 | 341 | 24
4 | August 1—October 1 | shallow-water | 0.340 | 53 | 18
|  | deep-water | 0.070 | 75 | 5
5 | October 1—December 31 | all targets | 0.205 | 256 | 52
Annual | Total shallow-water |  |  | 219
| Total deep-water |  |  | 56
| Grand Total, all seasons and categories |  | 1,706 | 327

Non-AFA Crab Vessel Groundfish Sideboard Limits

Section 680.22 establishes groundfish sideboard limits for vessels with a history of participation in the Bering Sea snow crab fishery to prevent these vessels from using the increased flexibility provided by the CR Program to expand their level of participation in the GOA groundfish fisheries. Sideboard harvest limits restrict these vessels' catch to their collective historical landings in each GOA groundfish fishery (except the fixed-gear sablefish fishery). Sideboard limits also apply to landings made using an LLP license derived from the history of a restricted vessel, even if that LLP license is used on another vessel.

The basis for these sideboard harvest limits is described in detail in the final rules implementing the major provisions of the CR Program, including Amendments 18 and 19 to the Fishery Management Plan for Bering Sea/Aleutian Islands King and Tanner Crabs (Crab FMP) (70 FR 10174, March 2, 2005), Amendment 34 to the Crab FMP (76 FR 35772, June 20, 2011), Amendment 83 to the GOA FMP (76 FR 74670, December 1, 2011), and Amendment 45 to the Crab FMP (80 FR 28539, May 19, 2015). Also, NMFS published a final rule (84 FR 2723, February 8, 2019) that implemented regulations to prohibit non-AFA crab vessels from directed fishing for all groundfish species or species groups subject to sideboard limits, except for Pacific cod apportioned to CVs using pot gear in the Western and Central Regulatory Areas (§ 680.22(e)(1)(iii)).

Table 15 lists the proposed 2020 and 2021 groundfish sideboard limits for non-AFA crab vessels not subject to the directed fishing prohibition under § 680.22(e)(1)(iii). All targeted or incidental catch of sideboard species made by non-AFA crab vessels or associated LLP licenses will be deducted from these sideboard limits.

Table 15—Proposed 2020 and 2021 GOA Non-American Fisheries Act Crab Vessel Groundfish Sideboard Limits
[Values are rounded to the nearest metric ton]
Species | Season/gear | Area/component/gear | Ratio of 1996- 2000 non-AFA crab vessel catch to 1996-2000 total harvest | Proposed 2020 and 2021 TACs | Proposed 2020 and 2021 non-AFA crab vessel sideboard limit
Pacific cod | A Season: January 1-June 10 | Western Pot CV | 0.0997 | 4,072 | 406
| Central Pot CV | 0.0474 | 4,382 | 208
| B Season: September 1-December 31 | Western Pot CV | 0.0997 | 2,715 | 271
| Central Pot CV | 0.0474 | 2,921 | 138

Rockfish Program Groundfish Sideboard and Halibut PSC Limitations

The Rockfish Program establishes three classes of sideboard provisions: CV groundfish sideboard restrictions, C/P rockfish sideboard restrictions, and C/P opt-out vessel sideboard restrictions (§ 679.82(c)(1)). These sideboards are intended to limit the ability of rockfish harvesters to expand into other fisheries.

CVs participating in the Rockfish Program may not participate in directed fishing for dusky rockfish, Pacific ocean perch, and northern rockfish in the Western GOA and West Yakutat District from July 1 through July 31. Also, CVs may not participate in directed fishing for arrowtooth flounder, deep-water flatfish, and rex sole in the GOA from July 1 through July 31 (§ 679.82(d)).

C/Ps participating in Rockfish Program cooperatives are restricted by rockfish and halibut PSC sideboard limits. These C/Ps are prohibited from directed fishing for dusky rockfish, Pacific ocean perch, and northern rockfish in the Western GOA and West Yakutat District from July 1 through July 31 (§ 679.82(e)(2)). Holders of C/P-designated LLP licenses that opt out of participating in a Rockfish Program cooperative will be able to access that portion of each rockfish sideboard limits that is not assigned to Rockfish Program cooperatives (§ 679.82(e)(7)). The sideboard ratio for each rockfish fishery in the Western GOA and West Yakutat District is set forth in § 679.82(e)(4). Table 16 lists the proposed 2020 and 2021 Rockfish Program C/P rockfish sideboard limits in the Western GOA and West Yakutat District. Due to confidentiality requirements associated with fisheries data, the sideboard limits for the West Yakutat District are not displayed.

Table 16—Proposed 2020 and 2021 Rockfish Program Sideboard Limits for the Western GOA and West Yakutat District by Fishery for the Catcher/Processor (C/P) Sector
[Values are rounded to the nearest metric ton]
Area | Fishery | C/P sector (% of TAC) | Proposed 2020 and 2021 TACs | Proposed 2020 and 2021 C/P sideboard limit
Western GOA | Dusky rockfish | 72.3 | 774 | 560.
| Pacific ocean perch | 50.6 | 3,125 | 1,581.
| Northern rockfish | 74.3 | 1,122 | 834.
West Yakutat District | Dusky rockfish | Confidential 1 | 94 | Confidential. 1
| Pacific ocean perch | Confidential 1 | 3,192 | Confidential. 1
¹ Not released due to confidentiality requirements associated with fish ticket data, as established by NMFS and the State of Alaska.

Under the Rockfish Program, the C/P sector is subject to halibut PSC sideboard limits for the trawl deep-water and shallow-water species fisheries from July 1 through July 31 (§ 679.82(e)(3) and (e)(5)). Halibut PSC sideboard ratios by fishery are set forth in § 679.82(e)(5). No halibut PSC sideboard limits apply to the CV sector, as vessels participating in a rockfish cooperative receive a portion of the annual halibut PSC limit. C/Ps that opt out of the Rockfish Program would be able to access that portion of the deep-water and shallow-water halibut PSC sideboard limit not assigned to C/P rockfish cooperatives. The sideboard provisions for C/Ps that elect to opt out of participating in a rockfish cooperative are described in § 679.82(c), (e), and (f). Sideboard limits are linked to the catch history of specific vessels that may choose to opt out. After March 1, NMFS will determine which C/Ps have opted-out of the Rockfish Program in 2020, and will know the ratios and amounts used to calculate opt-out sideboard ratios. NMFS will then calculate any applicable opt-out sideboard limits for 2020 and post these limits on the Alaska Region website at https://www.fisheries.noaa.gov/alaska/sustainable-fisheries/alaska-fisheries-management-reports#central-goa-rockfish. Table 17 lists the proposed 2020 and 2021 Rockfish Program halibut PSC limits for the C/P sector.

Table 17—Proposed 2020 and 2021 Rockfish Program Halibut PSC Limits for the Catcher/Processor Sector
[Values are rounded to the nearest metric ton]
Sector | Shallow-water species fishery halibut PSC sideboard ratio (percent) | Deep-water species fishery halibut PSC sideboard ratio (percent) | Annual halibut PSC limit (mt) | Annual shallow-water species fishery halibut PSC sideboard limit (mt) | Annual deep-water species fishery halibut PSC sideboard limit (mt)
Catcher/processor | 0.10 | 2.50 | 1,706 | 2 | 43

Amendment 80 Program Groundfish and PSC Sideboard Limits

Amendment 80 to the Fishery Management Plan for Groundfish of the Bering Sea and Aleutian Islands Management Area (Amendment 80 Program) established a limited access privilege program for the non-AFA trawl C/P sector. The Amendment 80 Program established groundfish and halibut PSC limits for Amendment 80 Program participants to limit the ability of participants eligible for the Amendment 80 Program to expand their harvest efforts in the GOA.

Section 679.92 establishes groundfish harvesting sideboard limits on all Amendment 80 Program vessels, other than the F/V Golden Fleece, to amounts no greater than the limits shown in Table 37 to 50 CFR part 679. Under § 679.92(d), the F/V Golden Fleece is prohibited from directed fishing for pollock, Pacific cod, Pacific ocean perch, dusky rockfish, and northern rockfish in the GOA.

Groundfish sideboard limits for Amendment 80 Program vessels operating in the GOA are based on their average aggregate harvests from 1998 through 2004 (72 FR 52668, September 14, 2007). Table 18 lists the proposed 2020 and 2021 groundfish sideboard limits for Amendment 80 Program vessels. NMFS will deduct all targeted or incidental catch of sideboard species made by Amendment 80 Program vessels from the sideboard limits in Table 18.

Table 18—Proposed 2020 and 2021 GOA Groundfish Sideboard Limits for Amendment 80 Program Vessels
[Values are rounded to the nearest metric ton]
Species | Season | Area | Ratio of Amendment 80 sector vessels 1998-2004 catch to TAC | Proposed 2020 and 2021 TAC (mt) | Proposed 2020 and 2021 Amendment 80 vessel sideboard limits (mt)
Pollock | A Season: January 20-March 10 | Shumagin (610) | 0.003 | 680 | 2
|  | Chirikof (620) | 0.002 | 21,888 | 44
|  | Kodiak (630) | 0.002 | 2,823 | 6
| B Season: March 10-May 31 | Shumagin (610) | 0.003 | 680 | 2
|  | Chirikof (620) | 0.002 | 21,888 | 44
|  | Kodiak (630) | 0.002 | 2,823 | 6
| C Season: August 25-October 1 | Shumagin (610) | 0.003 | 9,290 | 28
|  | Chirikof (620) | 0.002 | 6,752 | 14
|  | Kodiak (630) | 0.002 | 9,349 | 19
| D Season: October 1-November 1 | Shumagin (610) Chirikof (620) | 0.003 0.002 | 9,290 6,752 | 28 14
|  | Kodiak (630) | 0.002 | 9,349 | 19
| Annual | WYK (640) | 0.002 | 4,607 | 9
Pacific cod | A Season 1 January 1-June 10 | W C | 0.020 0.044 | 4,072 4,382 | 81 193
| B Season ² September 1-December 31 | W C | 0.020 0.044 | 2,715 2,921 | 54 129
| Annual | WYK | 0.034 | 1,619 | 55
Pacific ocean perch | Annual | W | 0.994 | 3,125 | 3,106
|  | WYK | 0.961 | 3,192 | 3,068
Northern rockfish | Annual | W | 1.000 | 1,122 | 1,122
Dusky rockfish | Annual | W | 0.764 | 774 | 591
|  | WYK | 0.896 | 94 | 84
¹ The Pacific cod A season for trawl gear does not open until January 20.
² The Pacific cod B season for trawl gear closes November 1.

The halibut PSC sideboard limits for Amendment 80 Program vessels in the GOA are based on the historical use of halibut PSC by Amendment 80 Program vessels in each PSC target category from 1998 through 2004. These values are slightly lower than the average historical use to accommodate two factors: Allocation of halibut PSC cooperative quota under the Rockfish Program and the exemption of the F/V Golden Fleece from this restriction (§ 679.92(b)(2)). Table 19 lists the proposed 2020 and 2021 halibut PSC sideboard limits for Amendment 80 Program vessels. These tables incorporate the maximum percentages of the halibut PSC sideboard limits that may be used by Amendment 80 Program vessels as contained in Table 38 to 50 CFR part 679. Any residual amount of a seasonal Amendment 80 halibut PSC sideboard limit may carry forward to the next season limit (§ 679.92(b)(2)).

Table 19—Proposed 2020 and 2021 Halibut PSC Sideboard Limits for Amendment 80 Program Vessels in the GOA
[Values are rounded to the nearest metric ton]
Season | Season dates | Fishery category | Historic Amendment 80 use of the annual halibut PSC limit (ratio) | Proposed 2020 and 2021 annual PSC limit (mt) | Proposed 2020 and 2021 Amendment 80 vessel PSC sideboard limit (mt)
1 | January 20-April 1 | shallow-water | 0.0048 | 1,706 | 8
|  | deep-water | 0.0115 | 1,706 | 20
2 | April 1-July 1 | shallow-water | 0.0189 | 1,706 | 32
|  | deep-water | 0.1072 | 1,706 | 183
3 | July 1-August 1 | shallow-water | 0.0146 | 1,706 | 25
|  | deep-water | 0.0521 | 1,706 | 89
4 | August 1-October 1 | shallow-water | 0.0074 | 1,706 | 13
|  | deep-water | 0.0014 | 1,706 | 2
5 | October 1-December 31 | shallow-water | 0.0227 | 1,706 | 39
|  | deep-water | 0.0371 | 1,706 | 63
Annual | Total shallow-water |  |  | 117
| Total deep-water |  |  | 357
| Grand Total, all seasons and categories |  |  | 474

Classification

NMFS has determined that the proposed harvest specifications are consistent with the FMP and preliminarily determined that the proposed harvest specifications are consistent with the Magnuson-Stevens Act and other applicable laws, subject to further review after public comment.

This action is authorized under 50 CFR 679.20 and is exempt from review under Executive Order 12866. This proposed rule is not an Executive Order 13771 regulatory action because this rule is not significant under Executive Order 12866.

NMFS prepared an EIS for the Alaska groundfish harvest specifications and alternative harvest strategies and made it available to the public on January 12, 2007 (72 FR 1512). On February 13, 2007, NMFS issued the ROD for the Final EIS. A SIR that assesses the need to prepare a Supplemental EIS is being prepared for the final 2020 and 2021 harvest specifications. Copies of the Final EIS, ROD, and annual SIRs for this action are available from NMFS (see ADDRESSES). The Final EIS analyzes the environmental, social, and economic consequences of the proposed groundfish harvest specifications and alternative harvest strategies on resources in the action area. Based on the analysis in the Final EIS, NMFS concluded that the preferred Alternative (Alternative 2) provides the best balance among relevant environmental, social, and economic considerations and allows for continued management of the groundfish fisheries based on the most recent, best scientific information.

NMFS prepared an IRFA as required by section 603 of the Regulatory Flexibility Act (RFA) (5 U.S.C. 603), analyzing the methodology for establishing the relevant TACs. The IRFA evaluated the economic impacts on small entities of alternative harvest strategies for the groundfish fisheries in the EEZ off Alaska. As described in the methodology, TACs are set to a level that falls within the range of ABCs recommended by the SSC; the sum of the TACs must achieve the OY specified in the FMP. While the specific numbers that the methodology produces may vary from year to year, the methodology itself remains constant.

A description of the proposed action, why it is being considered, and the legal basis for this proposed action are contained in the preamble above. A copy of the IRFA is available from NMFS (see ADDRESSES). A summary of the IRFA follows.

The action under consideration is a harvest strategy to govern the catch of groundfish in the GOA. The preferred alternative (Alternative 2) is the existing harvest strategy in which TACs fall within the range of ABCs recommended by the SSC. However, as discussed below, NMFS also considered other alternatives. This action is taken in accordance with the FMP prepared by the Council pursuant to the Magnuson-Stevens Act.

The entities directly regulated by this action are those that harvest groundfish in the EEZ of the GOA and in parallel fisheries within State of Alaska waters. These include entities operating CVs and C/Ps within the action area and entities receiving direct allocations of groundfish.

For RFA purposes only, NMFS has established a small business size standard for businesses, including their affiliates, whose primary industry is commercial fishing (see 50 CFR 200.2). A business primarily engaged in commercial fishing (NAICS code 11411) is classified as a small business if it is independently owned and operated, is not dominant in its field of operation (including its affiliates), and has combined annual gross receipts not in excess of $11 million for all its affiliated operations worldwide. In addition, under the RFA, the aggregate gross receipts of all participating members of a cooperative must meet the “under $11 million” threshold to be considered a small entity.

The IRFA shows that, in 2018, there were 756 individual CVs with gross revenues less than or equal to $11 million. This estimate accounts for corporate affiliations among vessels, and for cooperative affiliations among fishing entities, since some of the fishing vessels operating in the GOA are members of AFA inshore pollock cooperatives, GOA rockfish cooperatives, or BSAI CR Program cooperatives. Vessels that participate in these cooperatives are considered to be large entities within the meaning of the RFA because the aggregate gross receipts of all participating members exceed the $11 million threshold. After accounting for membership in these cooperatives, there are an estimated 756 small CV entities remaining in the GOA groundfish sector. However, the estimate of 756 CVs may be an overstatement of the number of small entities. This latter group of vessels had average gross revenues that varied by gear type. Average gross revenues for hook-and-line CVs, pot gear CVs, and trawl gear CVs are estimated to be $390,000, $870,000, and $2 million, respectively. Revenue data for the three C/Ps considered to be small entities are confidential.

The preferred alternative (Alternative 2) was compared to four other alternatives. Alternative 1 would have set TACs to generate fishing rates equal to the maximum permissible ABC (if the full TAC were harvested), unless the sum of TACs exceeded the GOA OY, in which case TACs would be limited to the OY. Alternative 3 would have set TACs to produce fishing rates equal to the most recent 5-year average fishing rates. Alternative 4 would have set TACs to equal the lower limit of the GOA OY range. Alternative 5, the “no action alternative,” would have set TACs equal to zero.

The TACs associated with Alternative 2, the preferred harvest strategy, are those recommended by the Council in October 2019. OFLs and ABCs for the species were based on recommendations prepared by the Council's Plan Team in September 2019, and reviewed by the Council's SSC in October 2019. The Council based its TAC recommendations on those of its AP, which were consistent with the SSC's OFL and ABC recommendations.

Alternative 1 selects harvest rates that would allow fishermen to harvest stocks at the level of ABCs, unless total harvests were constrained by the upper bound of the GOA OY of 800,000 mt. As shown in Table 1 of the preamble, the sum of ABCs in 2020 and 2021 would be 487,218 mt, which is below the upper bound of the OY range. The sum of TACs is 408,534 mt, which is less than the sum of ABCs. In this instance, Alternative 1 is consistent with the preferred alternative (Alternative 2), meets the objectives of that action, and has small entity impacts that may be equivalent to the preferred alternative. However, it is not likely that Alternative 1 would result in reduced adverse economic impacts to directly-regulated small entities relative to Alternative 2. The selection of Alternative 1, which could increase all TACs up to the sum of ABCs, would not take into account the fact that that increased TACs for some species probably would not be fully harvested. This could be due to a variety of reasons, including the lack of commercial or market interest in some species. Additionally, an underharvest of flatfish TACs could result due to other factors, such as the fixed, and therefore constraining, PSC limits associated with the harvest of the GOA groundfish species. Furthermore, TACs may be set lower than ABC for conservation purposes, as is the case with other rockfish in the Eastern GOA. Finally, the TACs for two species (pollock and Pacific cod) cannot be set equal to ABC, as the TAC must be reduced to account for the State's GHLs in these fisheries.

Alternative 3 selects harvest rates based on the most recent 5 years of harvest rates (for species in Tiers 1 through 3) or based on the most recent 5 years of harvests (for species in Tiers 4 through 6). This alternative is inconsistent with the objectives of this action because it does not take account of the most recent biological information for this fishery, as required by the Magnuson-Stevens Act. NMFS annually conducts at-sea stock surveys for different species, as well as statistical modeling, to estimate stock sizes and permissible harvest levels. Actual harvest rates or harvest amounts are a component of these estimates, but in and of themselves may not accurately portray stock sizes and conditions. Harvest rates are listed for each species or species group for each year in the SAFE report (see ADDRESSES).

Alternative 4 would lead to significantly lower harvests of all groundfish species and would reduce the TACs from the upper end of the OY range in the GOA to its lower end of 116,000 mt. Overall, this alternative would reduce 2020 TACs by about 72 percent and would lead to significant reductions in harvests of species harvested by small entities. While production declines in the GOA would be associated with offsetting price increases in the GOA, the size of these increases is uncertain and would still be constrained by production of substitutes. There are close substitutes for GOA groundfish species available in significant quantities from the Bering Sea and Aleutian Islands management area. Thus, price increases associated with reduced production are not likely to fully offset revenue declines from reduced production, and this alternative would have a detrimental impact on small entities.

Alternative 5, which sets all harvests equal to zero, would have a significant adverse economic impact on small entities and would be contrary to obligations to achieve OY on a continuing basis, as mandated by the Magnuson-Stevens Act. Under Alternative 5, all individual CVs impacted by this rule would have gross revenues of $0. Additionally, the small C/Ps impacted by this rule also would have gross revenues of $0.

The proposed harvest specifications (Alternative 2) extend the current 2020 OFLs, ABCs, and TACs to 2020 and 2021. As noted in the IRFA and this preamble, the Council may modify its recommendations for final OFLs, ABCs, and TACs in December 2019, when it reviews the November 2019 SAFE report from its Groundfish Plan Team, and the December 2019 Council meeting reports of its SSC and AP. Because the 2020 TACs in these proposed 2020 and 2021 harvest specifications are unchanged from the 2020 TACs in the final 2019 and 2020 harvest specifications (84 FR 9416; March 14, 2019), and because the sum of all TACs remains within OY for the GOA, NMFS does not expect adverse impacts on small entities. Also, NMFS does not expect any changes made by the Council in December 2019 to have significant adverse impacts on small entities.

This action does not modify recordkeeping or reporting requirements, or duplicate, overlap, or conflict with any Federal rules.

Adverse impacts on marine mammals or endangered or threatened species resulting from fishing activities conducted under these harvest specifications are discussed in the Final EIS and its accompanying annual SIRs (see ADDRESSES).

Authority: 16 U.S.C. 773 et seq.; 16 U.S.C. 1540(f); 16 U.S.C. 1801 et seq.; 16 U.S.C. 3631 et seq.; Pub. L. 105-277; Pub. L. 106-31; Pub. L. 106-554; Pub. L. 108-199; Pub. L. 108-447; Pub. L. 109-241; Pub. L. 109-479.

Dated: November 26, 2019.
Samuel D. Rauch, III,
Deputy Assistant Administrator for Regulatory Programs, National Marine Fisheries Service.

[FR Doc. 2019-26088 Filed 12-2-19; 8:45 am]

BILLING CODE 3510-22-P